DEPARTMENT OF HOMELAND SECURITY

Coast Guard

[Docket Number USCG-2020-0172]

Port Access Route Study: Seacoast of New Jersey Including Offshore Approaches to the Delaware Bay, Delaware

AGENCY: Coast Guard, DHS.

ACTION: Notice of availability.

SUMMARY: The Coast Guard announces the completion of the Port Access Route Study for the Seacoast of New Jersey Including Offshore Approaches to the Delaware Bay, Delaware. The study examined existing shipping routes and waterway uses, to include the potential for offshore energy development, in the study area to evaluate the need for establishing or changing existing vessel routing measures. This notice summarizes the study's recommendation.

FOR FURTHER INFORMATION CONTACT: If you have questions about this notice or study, call or email Mr. Matthew Creelman, Marine Planner at Fifth Coast Guard District, telephone (757) 398-6225, email Matthew.K.Creelman2@uscg.mil.

SUPPLEMENTARY INFORMATION:

I. Table of Abbreviations

ACPARS Atlantic Coast Ports Access Route Study

BOEM Bureau of Ocean Energy Management

DHS Department of Homeland Security

FR Federal Register

IMO International Maritime Organization

NEPA National Environmental Policy Act

OREI Offshore Renewable Energy Installation

PARS Port Access Route Study

SAR Search and Rescue

USCG United States Coast Guard

II. Background and Purpose

We conducted this Port Access Route Study (PARS) following a Notice of Study, published in the Federal Register on May 5, 2020. There was a 60-day public comment period, as well as other outreach efforts identified in Section C of the study. During the comment period the USCG received 32 comments in response to the notice.

We conducted two (2) public meetings, as published in the Federal Register (85 FR 64507), on September 13, 2020. Audio recordings of both meetings are contained in the public docket as annotated in Section C of the study.

On September 24, 2021, we published a Notice of Availability of the draft study in the Federal Register (86 FR 53089) with a 30-day public comment period and a request for public comment.

During the 30-day public comment period, the USCG received 15 comments in response to our draft study. All comments and supporting documents are available in the public docket and can be viewed at https://www.regulations.gov. To view documents, in the “Search” box insert “USCG-2020-0172” and click “Search”.

The goal of the study is to enhance navigational safety in the study area by examining existing shipping routes and waterway uses. We have undertaken measures to (1) determine what, if any, navigational safety concerns exist with vessel transits in the study area; (2) determine whether to recommend changes to enhance navigational safety by examining existing shipping routes and all other waterway uses; and (3) reconcile any other proposed changes with other reasonable waterway uses.

III. Study Recommendations

The recommendations of this PARS are based on the data analysis for historical vessel traffic patterns, comments received to the docket, public outreach, and consultation with other government agencies and stakeholders. Recommendations in the study include:

1. Submit proposals to the IMO to create precautionary areas offshore from the entrance to the Delaware River where shipping safety fairways and traffic separation schemes intersect.

2. Submit proposals to the IMO to extend the Traffic Separation Schemes in the approach to the Delaware River beyond any OREI lease areas adjacent to the approaches.

3. Submit a proposal to the IMO to extend the two-way route along the New Jersey coast across the entrance of the Delaware Bay and along the Delaware coast.

4. Amend the proposed Shipping Safety Fairways along the Atlantic Coast to separate the Cape Charles to Montauk Point Fairway into a Cape Charles to Delaware Bay Fairway and a Barnegat to Narragansett Fairway.

5. Create a New Jersey to New York Fairway and include this in the Shipping Safety Fairways along the Atlantic Coast.

6. Establish a Fairway Anchorage adjacent to the Southeastern Traffic Separation Scheme to accommodate future needs for safe anchorage around OREI.

IV. Summary of Changes

Recommendations in Section F were expanded to include a general notice to mariners on navigation safety around OREI.

The table of coordinates was removed in an effort to avoid confusion. Detailed coordinates for proposed routing measures, fairways, and anchorage grounds will be announced in future rulemakings.

A statement acknowledging the impact of OREI on SAR was included in Section F to address future actions necessary to ensure operational units revise plans to incorporate in the future.

A section summarizing comments to the draft report from the public was added as a new Section G and subsequent sections were re-labeled to incorporate this addition.

V. Future Actions

The USCG will continue to serve as a NEPA cooperating agency to the Bureau of Ocean Energy Management's (BOEM) environmental review of each proposed OREI project. In that role, the USCG will evaluate the navigational safety risks of each proposal on a case-by-case basis.

The final study will be submitted to the Coast Guard's Office of Navigation Systems (CG-NAV-2) for consideration and to inform the Coast Guard's ongoing efforts to establish shipping safety fairways along the Atlantic Coast, which can be found at 85 FR 37034.

The final study is available for viewing and download from the Federal Register docket at http://www.regulations.gov or the USCG Navigation Center website at https://www.navcen.uscg.gov/?pageName=PARSReports.

Dated: March 18, 2022.
Laura M. Dickey,
Rear Admiral, U.S. Coast Guard, Commander, Fifth Coast Guard District.

[FR Doc. 2022-06228 Filed 3-23-22; 8:45 am]

BILLING CODE 9110-04-P